DEPARTMENT OF HEALTH AND HUMAN SERVICES

Centers for Disease Control and Prevention

[Docket Number CDC-2017-0090, NIOSH-301]

Application of Biological Monitoring Methods for Chemical Exposures in Occupational Health

AGENCY: National Institute for Occupational Safety and Health (NIOSH) of the Centers for Disease Control and Prevention (CDC), Department of Health and Human Services (HHS).

ACTION: Notice of draft document for public comment.

SUMMARY: The National Institute for Occupational Safety and Health of the Centers for Disease Control and Prevention announces the availability of a draft chapter to be published in the NIOSH Manual of Analytical Methods (NMAM) entitled “Application of Biological Monitoring Methods for Chemical Exposures in Occupational Health” now available for public comment. To view the draft chapter and related materials, visit https://www.regulations.gov and enter CDC-2017-0090 in the search field and click “Search.”

DATES: Electronic or written comments must be received by December 15, 2017.

ADDRESSES: You may submit comments, identified by CDC-2017-0090 and docket number NIOSH-301, by any of the following methods:

• Federal eRulemaking Portal: https://www.regulations.gov Follow the instructions for submitting comments.

• Mail: National Institute for Occupational Safety and Health, NIOSH Docket Office, 1090 Tusculum Avenue, MS C-34, Cincinnati, Ohio 45226-1998.

Instructions: All information received in response to this notice must include the agency name and docket number [CDC-2017-0090; NIOSH-301]. All relevant comments received will be posted without change to https://www.regulations.gov, including any personal information provided. For access to the docket to read background documents or comments received, go to https://www.regulations.gov. All information received in response to this notice will also be available for public examination and copying at the NIOSH Docket Office, 1150 Tusculum Avenue, Room 155, Cincinnati, OH 45226-1998.

FOR FURTHER INFORMATION CONTACT: Dale Shoemaker, Ph.D., NIOSH/DART, 1090 Tusculum Avenue, MS R-7, Cincinnati, OH 45226,(513) 841-4523 (not a toll-free number).

SUPPLEMENTARY INFORMATION: Background: The NIOSH Manual of Analytical Methods (NMAM) was first published in 1974. Currently in its Fifth Edition, the NMAM contains 60 methods and 11 chapters that can be used by the occupational safety and health professionals to measure worker exposures. NIOSH has written an updated chapter covering the application and validation of biological monitoring methods for chemical exposures to be included in the NMAM. NIOSH is requesting public comment on this draft.

John Howard,
Director, National Institute for Occupational Safety and Health, Centers for Disease Control and Prevention.

[FR Doc. 2017-22342 Filed 10-13-17; 8:45 am]

BILLING CODE 4163-19-P